DEPARTMENT OF HOMELAND SECURITY

Federal Emergency Management Agency

44 CFR Part 67

[Docket No. FEMA-B-7741]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before January 14, 2008.

ADDRESSES: The corresponding preliminary Flood Insurance Rate Map (FIRM) for the proposed BFEs for each community are available for inspection at the community's map repository. The respective addresses are listed in the table below.

You may submit comments, identified by Docket No. FEMA-B-7741, to William R. Blanton, Jr., Chief, Engineering Management Section, Mitigation Directorate, Federal Emergency Management Agency, 500 C Street, SW., Washington, DC 20472.

FOR FURTHER INFORMATION CONTACT: William R. Blanton, Jr., Chief, Engineering Management Section, Mitigation Directorate, Federal Emergency Management Agency, 500 C Street, SW., Washington, DC 20472.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | *Elevation in feet (NGVD) +Elevation in feet (NAVD) #Depth in feet above ground: Effective | *Elevation in feet (NGVD) +Elevation in feet (NAVD) #Depth in feet above ground: Modified | Communities affected
Orange County, New York, and Incorporated Areas
Black Meadow Creek | At confluence with Otter Kill | +378 | +377 | Town of Goshen.
| Approximately 800 feet upstream of confluence with Otter Kill | +378 | +377
Cold Brook | Approximately 300 feet downstream of Beach Road | +439 | +435 | Town of Deer Park, City of Port Jervis.
| At confluence with Neversink River | +438 | +435
Delaware River | At County boundary | +425 | +426 | Town of Deer Park, City of Port Jervis.
| Approximately 645 feet upstream of Rail Road | +469 | +470
Monhagen Brook | Approximately 0.4 mile downstream of Abe Isseks Drive | None | +465 | City of Middletown, Town of Wallkill, Town of Wawayanda.
| Approximately 1,200 feet upstream of Mt. Hope Road | None | +606
Moodna Creek | Approximately 1,100 feet downstream of spillway at Towns of Blooming Grove and Cornwall corporate limits | +259 | +260 | Town of Blooming Grove, Town of Cornwall, Village of Washingtonville.
| At the confluence with Otter Kill and Cromline Creek | +321 | +319
Neversink River | At the confluence with Delaware River | +425 | +430 | City of Port Jervis, Town of Deer Park.
| Approximately 275 feet upstream of Paradise Road | +645 | +649
Otter Kill | Approximately 1.2 miles upstream of Sora Wells Trail | +366 | +365 | Town of Goshen.
| Approximately 1.4 miles upstream of State Route 17 | None | +470
Tributary 12 | At the confluence with Otter Kill | +368 | +365 | Town of Goshen.
| Approximately 150 feet upstream of Craigville Road | +397 | +395
Perry Creek | At the confluence with Moodna Creek | None | +306 | Town of Blooming Grove, Village of Washingtonville.
| Approximately 500 feet upstream of Clove Road | None | +537
Pine Tree Brook | At confluence with Ramapo River Reach 2 | +580 | +582 | Village of Monroe.
| Approximately 1,020 feet upstream of confluence with Ramapo River Reach 2 | +581 | +582
Quaker Creek | Approximately 100 feet upstream of confluence with Browns Creek | +399 | +398 | Village of Florida.
| Approximately 150 feet upstream of Roosevelt Avenue | None | +456
Ramapo River Reach 2 | Approximately 2,150 feet downstream of Arden House Road | None | +518 | Village of Harriman, Town of Monroe, Town of Woodbury, Village of Monroe.
| Approximately 1.4 miles upstream of Reynolds Road | None | +838
Tributary 1 | At confluence with Ramapo River Reach 2 | +522 | +519 | Village of Harriman, Town of Woodbury.
| Approximately 1,100 feet upstream of Meadow Avenue | +522 | +519
Tributary 26 | At confluence with Ramapo River Reach 2 | +579 | +581 | Village of Monroe.
| Approximately 800 feet upstream of confluence with Ramapo River Reach 2 | +580 | +581
Rio Grande | Approximately 300 feet downstream of State Route 17 | +411 | +412 | Town of Goshen, Village of Goshen.
| Approximately 650 feet upstream of Greenwich Avenue | +433 | +430
Tributary 4 | At the confluence with Rio Grande | None | +427 | Village of Goshen.
| Approximately 2,160 feet upstream of Scotchtown Road | None | +440
Satterly Creek | At the confluence with Moodna Creek | +314 | +312 | Town of Blooming Grove, Village of Washingtonville.
| At the confluence of Satterly Creek Tributary #5 | +344 | +346
South Tributary to Wawayanda Creek | At the confluence with Wawayanda Creek | +519 | +521 | Town of Warwick, Village of Warwick.
| Approximately 2 miles upstream of Galloway Road | None | +778
Wallkill River Tributary 6 | At the confluence with Wallkill River | None | +331 | Town of Montgomery.
| Approximately 1,800 feet upstream of State Route 17 | None | +392
Wawayanda Creek | Approximately 2,500 feet downstream of Howe Street | +506 | +507 | Village of Warwick, Town of Warwick.
| Approximately 0.9 mile upstream of Forester Avenue | +521 | +522
Woodbury Creek | At Creamery Hill Road | +250 | +251 | Town of Cornwall, Town of Woodbury.
| Approximately 1,190 feet upstream of Estrada Road | None | +487
Tributary 11 | At the confluence with Woodbury Creek | None | +487 | Town of Woodbury.
| Approximately 2,700 feet upstream of Dunderburg Road | None | +772
* National Geodetic Vertical Datum.
+ North American Vertical Datum.
# Depth in feet above ground.
** BFEs to be changed include the listed downstream and upstream BFEs, and includes BFEs located on the stream reach between the two listed herein. Please check the Flood Insurance Rate Map (see below) for exact locations of all BFEs to be changed.
Send comments to William R. Blanton, Jr., Chief, Engineering Management Section, Mitigation Directorate, Federal Emergency Management Agency, 500 C Street, SW., Washington, DC 20472.
COMMUNITY NAME
City of Middletown
Maps are available for inspection at Middletown City Hall, 16 James Street, Middletown, NY.
City of Port Jervis
Maps are available for inspection at Port Jervis City Municipal Building, 14-20 Hammond Street, Port Jervis, NY.
Town of Blooming Grove
Maps are available for inspection at Blooming Grove Town Hall, 6 Horton Road, Blooming Grove, NY.
Town of Cornwall
Maps are available for inspection at Cornwall Town Hall, 183 Main Street, Cornwall, NY.
Town of Deer Park
Maps are available for inspection at Deer Park Town Building Inspector's Office, 420 Route 209, Hugenot, NY.
Town of Goshen
Maps are available for inspection at Goshen Town Hall, 41 Webster Street, NY.
Town of Monroe
Maps are available for inspection at Monroe Town Building Department, 11 Stage Road, Monroe, NY.
Town of Montgomery
Maps are available for inspection at Montgomery Town Hall, 110 Bracken Road, Montgomery, NY.
Town of Wallkill
Maps are available for inspection at Wallkill Town Hall, 99 Tower Drive, Middletown, NY.
Town of Warwick
Maps are available for inspection at Warwick Town Municipal Building, 132 Kings Highway, Warwick, NY.
Town of Wawayanda
Maps are available for inspection at Wawayanda Town Hall, 80 Ridgeberry Hill Road, Slate Hill, NY.
Town of Woodbury
Maps are available for inspection at Highlands Town Hall, 511 Route 32, Highland Mills, NY.
Village of Florida
Maps are available for inspection at Florida Village Hall, 33 South Main Street, Florida, NY.
Village of Goshen
Maps are available for inspection at Goshen Village Hall, 276 Main Street, Goshen, NY.
Village of Harriman
Maps are available for inspection at Harriman Village Hall, 1 Church Street, Harriman, NY.
Village of Monroe
Maps are available for inspection at Monroe Village Hall, 7 Stage Road, Monroe, NY.
Village of Warwick
Maps are available for inspection at Village Hall, 77 Main Street, Warwick, NY.
Village of Washingtonville
Maps are available for inspection at Washingtonville Village Hall, 29 West Main Street, Washingtonville, NY.

[Catalog of Federal Domestic Assistance No. 97.022, “Flood Insurance.”]

Dated: October 10, 2007.
David I. Maurstad,
Federal Insurance Administrator of the National Flood Insurance Program, Department of Homeland Security, Federal Emergency Management Agency.

[FR Doc. E7-20388 Filed 10-15-07; 8:45 am]

BILLING CODE 9110-12-P